POSTAL REGULATORY COMMISSION

[Docket No. ACR2025; Order No. 9417]

FY 2025 Annual Compliance Report

AGENCY: Postal Regulatory Commission.

ACTION: Notice.

SUMMARY: The Postal Service has filed an Annual Compliance Report on the costs, revenues, rates, and quality of service associated with its products in fiscal year 2025. Within 90 days, the Commission must evaluate that information and issue its determination as to whether rates were compliant and whether service standards in effect were met. To assist in this, the Commission seeks public comments on the Postal Service's Annual Compliance Report.

DATES: Comments are due: January 27, 2026. Reply Comments are due: February 10, 2026.

ADDRESSES: Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. The Postal Service's FY 2025 ACR

III. Administrative Actions

IV. Ordering Paragraphs

I. Introduction

On December 29, 2025, the Postal Service filed with the Commission its Annual Compliance Report (ACR) for fiscal year (FY) 2025, pursuant to 39 U.S.C. 3652.¹ Public portions of the Postal Service's filing are available on the Commission's website at https://www.prc.gov. After reviewing the FY 2025 ACR, comments, and other data and information submitted in this proceeding, the Commission will issue its Annual Compliance Determination (ACD), which determines whether Postal Service products offered during FY 2025 complied with the applicable requirements of Title 39 of the United States Code.

¹ United States Postal Service FY 2025 Annual Compliance Report, December 29, 2025 (FY 2025 ACR).

II. The Postal Service's FY 2025 ACR

A. General Contents

The Postal Service's FY 2025 ACR consists of a 62-page narrative. FY 2025 ACR at 1-62. The Postal Service has streamlined this document by reducing restatements of information appearing in multiple locations and expanding use of summary tables. Id. at 1.

Additional materials are appended as 77 separate folders (interchangeably referred to as Library References). Id. at 1, 3. Consistent with past practice, some of the materials appear in non-public annexes. Id. at 62. An application for non-public treatment of certain materials is filed as Attachment 2. Id., Attachment 2.

Library Reference USPS-FY25-17 presents the United States Postal Service Fiscal Year 2025 Annual Report to Congress, which includes the Fiscal Year 2025 Annual Report, the Fiscal Year 2025 Comprehensive Statement on Postal Service Operations, the Fiscal Year 2025 Performance Report, and the Fiscal Year 2026 Performance Plan.² Supporting materials appear in Library References USPS-FY25-17, USPS-FY25-NP18, and USPS-FY25-NP30. FY 2025 ACR at 4.

² Id. at 3-4. Since Docket No. ACR2013, the Commission has published a separate notice soliciting comments on these materials, which are prepared by the Postal Service pursuant to 39 U.S.C. 2803 and 39 U.S.C. 2804, and has provided the Commission's analysis in a separate report from the ACD. See, e.g., Docket No. ACR2024, Postal Regulatory Commission, Analysis of the Postal Service's FY 2024 Annual Performance Report and FY 2025 Performance Plan, July 23, 2025, at 10. The Commission will continue this practice in Docket No. ACR2025.

Similarly, a copy of the Postal Service's annual report to the Secretary of the Treasury regarding the Competitive Products Fund, required by 39 U.S.C. 2011(i), appears as part of Library Reference USPS-FY25-39, along with the other Competitive Products Fund materials required by 39 CFR 3060.20 through 3060.23. Id. at 3.

B. New “Roadmap”

The Postal Service's new roadmap to the FY 2025 ACR appears in Library Reference USPS-FY25-0 and consists of two Excel files: (1) Roadmap spreadsheet listing all Library References submitted, as well as the flow of inputs and outputs among them; and (2) Directives spreadsheet listing all active Commission directives, as well as the location of responsive information provided by the Postal Service. FY 2025 ACR at 1-2.

In prior years, the Postal Service provided a roadmap document in Library Reference 9.³ For FY 2025, Library Reference USPS-FY25-9 contains only information responsive to two Commission rules: (1) a list of special studies and a discussion of obsolescence, as required by 39 CFR 3050.12; and (2) a brief narrative explanation of any changes to accepted analytical principles that have been made since the FY 2024 ACD was issued and the reasons that those changes were accepted, as required by 39 CFR 3050.13. FY 2025 ACR at 2, 3. A table cross-walking the type of content appearing in Library Reference USPS-FY24-9 to its current iteration, Library Reference USPS-FY25-9, appears in its preface.⁴

³ See e.g., Docket No. ACR2024, Library Reference USPS-FY24-9, December 30, 2024, PDF file “USPS-FY24-9 Preface.pdf.”

⁴ Docket No. ACR2025, Library Reference USPS-FY25-9, December 29, 2025, PDF file “USPS-FY25-9 Preface.pdf.”

C. Market Dominant Product-by-Product Costs, Revenues, and Volumes

Comprehensive cost, revenue, and volume data for all Market Dominant products of general applicability are shown directly in the FY 2025 Cost and Revenue Analysis (CRA), appearing in Library References USPS-FY25-1 and USPS-FY25-NP11, as well as the International Cost and Revenue Analysis (ICRA), appearing in Library Reference USPS-FY25-NP2. FY 2025 ACR at 4. Tables 1 through 5 provide data by class of each Market Dominant product, including costs, revenues, and volumes. Id. at 5-7. Table 6 provides summary information by class regarding the ranges of passthroughs produced by workshare discounts. Id. at 8. Fuller data regarding workshare discounts and passthroughs appear in Library Reference USPS-FY25-3. Id. at 4. Table 7 provides summary information about the performance of First-Class Mail and USPS Marketing Mail promotions and incentives. Id. at 9.

D. Service Performance

The FY 2025 ACR contains the Postal Service's discussion of service performance in FY 2025. Id. at 17-27. Public service performance information required under 39 CFR part 3055 or in response to past ACD directives appears in Library Reference USPS-FY25-29. Id. at 17 n.7. Non-public service information related to the service performance of international mail products appears in Library Reference USPS-FY25-NP30. Id. The FY 2025 ACR also discusses customer satisfaction and consumer access to postal services, with supporting materials appearing in public Library References USPS-FY25-38 and USPS-FY25-33, respectively. Id. at 27-62.

E. Competitive Products

The costs, revenues, and volumes for Competitive products of general applicability appear in the FY 2025 CRA or ICRA. Id. at 10. For Competitive products not of general applicability, data appear in non-public Library References USPS-FY25-NP2 and USPS-FY25-NP27. Id. at 11. The FY 2025 ACR also addresses the Competitive product pricing standards of 39 U.S.C. 3633. Id. at 11-15.

F. Market Test, Nonpostal Services, and Inter-Agency Agreements

The Postal Service describes the market test active during FY 2025. Id. at 9-10. The Postal Service discusses the nonpostal services and inter-agency agreements offered during FY 2025. Id. at 16-17. Library Reference USPS-FY25-20 contains supporting public material, and Library Reference USPS-FY25-NP32 contains supporting non-public material.

III. Administrative Actions

A. Docket and Accessing Filings

The Commission establishes Docket No. ACR2025 for consideration of the matters raised by the Postal Service's ACR. All material filed in Docket No. ACR2025 will be available for review on the Commission's website (https://www.prc.gov). Any material filed in this proceeding that is subject to an application for non-public treatment (filed under seal) may be accessed via the Commission's website only by account holders granted access by an order or in accordance with 39 CFR 3011.300(a). The Commission's rules on non-public materials (including access to material filed under seal) appear in 39 CFR part 3011.

B. Opportunity for Public Comment

Section 3653 of title 39 requires the Commission to provide an opportunity to comment on the Postal Service's ACR. The Commission invites comments on the Postal Service's FY 2025 ACR and on whether any rates or fees in effect during FY 2025 (for products individually or collectively) were not in compliance with applicable provisions of chapter 36 of title 39 or Commission regulations promulgated thereunder. The Commission also invites comments on the cost coverage matters the Postal Service addresses in its filing; service performance results, levels of customer satisfaction achieved, and other matters that may be relevant to the Commission's review. Comments are due January 27, 2026. Reply comments are due February 10, 2026.

C. Public Representative

Pursuant to 39 U.S.C. 3653(a), Kenneth R. Moeller is designated to serve as the Public Representative to represent the interests of the general public in this proceeding. Neither the Public Representative nor any additional persons assigned to assist him shall participate in or advise as to any Commission decision in this proceeding other than in his or her designated capacity.

IV. Ordering Paragraphs

It is ordered:

1. The Commission establishes Docket No. ACR2025 to consider matters raised by the United States Postal Service's FY 2025 Annual Compliance Report, filed December 29, 2025.

2. Pursuant to 39 U.S.C. 3653(a), the Commission appoints Kenneth R. Moeller as an officer of the Commission (Public Representative) in this proceeding to represent the interests of the general public.

3. Comments on the United States Postal Service's FY 2025 Annual Compliance Report to the Commission are due January 27, 2026.

4. Reply comments are due February 10, 2026.

5. This Order shall be published in the Federal Register.

By the Commission.
Jennie L. Jbara,
Primary Certifying Official.

[FR Doc. 2025-24211 Filed 12-31-25; 8:45 am]

BILLING CODE 7710-FW-P